DEPARTMENT OF LABOR

Child Labor, Forced Labor, and Forced or Indentured Child Labor in the Production of Goods in Foreign Countries and Efforts by Certain Countries To Eliminate the Worst Forms of Child Labor

AGENCY: The Bureau of International Labor Affairs, United States Department of Labor.

ACTION: Notice; request for information.

SUMMARY: This notice is two related requests for information to be used by the Department of Labor (DOL) in preparation of its reporting under Congressional mandates and Presidential directive. The first request seeks information on the use of forced labor, child labor, and/or forced or indentured child labor in the production of goods internationally, as well as information on government, industry, or third-party actions and initiatives to address these problems. DOL will use the information as appropriate to maintain the list of goods that the Bureau of International Labor Affairs (ILAB) has reason to believe are produced by child labor or forced labor in violation of international standards under Trafficking Victims Protection Reauthorization Act (TVPRA) of 2005, Section 105(b), and the List of Products Produced by Forced or Indentured Child Labor under Executive Order 13126 of 1999. The second request seeks additional information on exploitive child labor, which DOL will use to produce an annual report on certain trade beneficiary countries' implementation of international commitments to eliminate the worst forms of child labor. This will be the ninth such report by DOL under the Trade and Development Act of 2000 (TDA). For information on terms and definitions used here, please see the “Terms and Definitions” section of this notice.

DATES: Submitters of information are requested to provide their submission to the Office of Child Labor, Forced Labor and Human Trafficking at the e-mail or physical address below by 5 p.m., April 9, 2010.

ADDRESSES: E-mail submissions should be addressed to Tina McCarter at mccarter.tina@dol.gov or Leyla Strotkamp at strotkamp.leyla@dol.gov. Written submissions should be addressed to Ms. McCarter or Ms. Strotkamp at the Office of Child Labor, Forced Labor and Human Trafficking, Bureau of International Labor Affairs, USDOL, 200 Constitution Avenue, NW., Room S-5317, Washington, DC 20210, or faxed to (202) 693-4843.

FOR FURTHER INFORMATION CONTACT: Tina McCarter or Leyla Strotkamp (see contact information above). DOL's international child labor and forced labor reports can be found on the Internet at http://www.dol.gov/ILAB/media/reports/iclp/main.htm or can be obtained from the Office of Child Labor, Forced Labor and Human Trafficking (OCFT).

SUPPLEMENTARY INFORMATION: Section 105(b)(1) of the Trafficking Victims Protection Reauthorization Act of 2005 (“TVPRA of 2005”), Public Law 109-164 (2006), directed the Secretary of Labor, acting through ILAB, to “develop and make available to the public a list of goods from countries that the Bureau of International Labor Affairs has reason to believe are produced by forced labor or child labor in violation of international standards.”

Pursuant to this mandate, in December 2007 DOL published in the Federal Register a set of procedural guidelines that ILAB follows in developing the list of goods (72 FR 73374). The guidelines set forth the criteria by which information is evaluated; established procedures for public submission of information to be considered by ILAB; and identified the process ILAB follows in maintaining and updating the list after its initial publication.

On September 10, 2009, ILAB released its initial list of goods from countries (TVPRA list). This list will be updated periodically, as additional countries and territories are researched and new information for countries and territories already reviewed is monitored. For a copy of the initial TVPRA report, Frequently Asked Questions, and other materials relating to the list's release, see ILAB's TVPRA Web page at: http://www.dol.gov/ILAB/programs/ocft/tvpra.htm.

Executive Order No. 13126 (EO 13126) declared that it was “the policy of the United States Government * * * that the executive agencies shall take appropriate actions to enforce the laws prohibiting the manufacture or importation of goods, wares, articles, and merchandise mined, produced or manufactured wholly or in part by forced or indentured child labor.” Pursuant to the EO 13126, and following public notice and comment, the Department of Labor published in the January 18, 2001, Federal Register, a final list of products (the “List”), identified by their country of origin, that the Department, in consultation and cooperation with the Departments of State and Treasury [relevant responsibilities now within the Department of Homeland Security], had a reasonable basis to believe might have been mined, produced or manufactured with forced or indentured child labor (66 FR 5353). In addition to the List, the Department also published on January 18, 2001, “Procedural Guidelines for Maintenance of the List of Products Requiring Federal Contractor Certification as to Forced or Indentured Child Labor” (Procedural Guidelines), which provide for maintaining, reviewing, and, as appropriate, revising the List (66 FR 5351). Based on DOL research and information submitted by the public, DOL issued an initial determination on September 11, 2009, announcing proposed updates to the E.O. 13126 list and requesting public comments. The current List, the Procedural Guidelines, and the initial determination can be accessed on the Internet at http://www.dol.gov/ILAB/regs/eo13126/main.htm.

Pursuant to Sections D through G of the Procedural Guidelines, the EO 13126 List may be updated through considerations of submissions by individuals or through OCFT's own initiative.

The Trade and Development Act of 2000 [Pub. L. 106-200] established a new eligibility criterion for receipt of trade benefits under the Generalized System of Preferences (GSP), Caribbean Basin Trade and Partnership Act (CBTPA), and Africa Growth and Opportunity Act (AGOA). The TDA amends the GSP reporting requirements of the Trade Act of 1974 (Section 504) [19 U.S.C. 2464] to require that the President's annual report on the status of internationally recognized worker rights include “findings by the Secretary of Labor with respect to the beneficiary country's implementation of its international commitments to eliminate the worst forms of child labor.” Title II of the TDA and the TDA Conference Report [Joint Explanatory Statement of the Committee of Conference, 106th Cong. 2d sess. (2000)] indicate that the same criterion applies for the receipt of benefits under CBTPA and AGOA, respectively.

In addition, the Andean Trade Preference Act (ATPA), as amended and expanded by the Andean Trade Promotion and Drug Eradication Act (ATPDEA) [Pub. L. 107-210, Title XXXI], includes as a criterion for receiving benefits “[w]hether the country has implemented its commitments to eliminate the worst forms of child labor as defined in section 507(6) of the Trade Act of 1974.”

Information Requested for TVPRA and Executive Order 13126 Lists

DOL seeks information on the nature and extent of child labor, forced labor, and forced or indentured child labor in the production of goods in foreign countries. Submitters should take into consideration the definitions of child labor, forced labor, and forced or indentured child labor provided at the end of this notice. Information tending to establish the presence or absence of a significant incidence of these problems in the production of a particular good in a country will be considered the most relevant and probative.

DOL also seeks information on government, industry, or third-party actions and initiatives to address these issues. Information on such actions and initiatives will be taken into consideration, although they are not necessarily sufficient in and of themselves to prevent a good and country from being listed. In evaluating such information, ILAB will consider particularly relevant and probative any evidence of government, industry, and third-party actions and initiatives that are effective in significantly reducing if not eliminating child labor, forced labor, and forced or indentured child labor.

In the interest of transparency, classified information will not be accepted. Where applicable, information submitted should indicate their source or sources, and copies of the source material should be provided. If primary sources are utilized, such as research studies, interviews, direct observations, or other sources of quantitative or qualitative data, details on the research or data-gathering methodology should be provided.

Scope of TDA Report

Countries and non-independent countries and territories presently eligible under the GSP and to be included in the report are: Afghanistan, Albania, Algeria, Angola, Anguilla, Argentina, Armenia, Azerbaijan, Bangladesh, Belize, Benin, Bhutan, Bolivia, Bosnia and Herzegovina, Botswana, Brazil, British Indian Ocean Territory, British Virgin Islands, Burkina Faso, Burundi, Cambodia, Cameroon, Cape Verde, Central African Republic, Chad, Christmas Island, Cocos Islands, Colombia, Comoros, Democratic Republic of the Congo, Republic of Congo, Cook Islands, Cote d'Ivoire, Croatia, Djibouti, Dominica, East Timor, Ecuador, Egypt, Equatorial Guinea, Eritrea, Ethiopia, Falkland Islands, Fiji, Gabon, the Gambia, Georgia, Ghana, Gibraltar, Grenada, Guinea, Guinea-Bissau, Guyana, Haiti, Heard Island and McDonald Islands, India, Indonesia, Iraq, Jamaica, Jordan, Kazakhstan, Kenya, Kiribati, Kosovo, Kyrgyz Republic, Lebanon, Lesotho, Liberia, Macedonia, Madagascar, Malawi, Maldives, Mali, Mauritania, Mauritius, Moldova, Mongolia, Montenegro, Montserrat, Mozambique, Namibia, Nepal, Niger, Nigeria, Niue, Norfolk Island, Pakistan, Panama, Papua New Guinea, Paraguay, Philippines, Pitcairn Islands, Russia, Rwanda, Saint Helena, Saint Kitts and Nevis, Saint Lucia, Saint Vincent and the Grenadines, Samoa, Sao Tomé and Principe, Senegal, Serbia, Seychelles, Sierra Leone, Solomon Islands, Somalia, South Africa, Sri Lanka, Suriname, Swaziland, Tanzania, Thailand, Togo, Tokelau Island, Tonga, Trinidad and Tobago, Tunisia, Turkey, Turks and Caicos Islands, Tuvalu, Uganda, Ukraine, Uruguay, Uzbekistan, Vanuatu, Venezuela, Wallis and Futuna, West Bank and Gaza Strip, Western Sahara, Republic of Yemen, Zambia, and Zimbabwe.

Countries eligible or potentially eligible for additional benefits under the AGOA and to be included in the report are: Angola, Benin, Botswana, Burkina Faso, Burundi, Cameroon, Cape Verde, Chad, Comoros, Republic of Congo, Democratic Republic of the Congo, Djibouti, Ethiopia, Gabon, the Gambia, Ghana, Guinea, Guinea Bissau, Kenya, Lesotho, Liberia, Madagascar, Malawi, Mali, Mauritius, Mozambique, Namibia, Niger, Nigeria, Rwanda, Sao Tome and Principe, Senegal, Seychelles, Sierra Leone, South Africa, Swaziland, Tanzania, Togo, Uganda, and Zambia.

Countries potentially eligible for additional benefits under the CBTPA and to be included in the report are: Barbados, Belize, Guyana, Haiti, Jamaica, Panama, Saint Lucia, and Trinidad and Tobago.

Countries potentially eligible for additional benefits under the ATPA/ATPDEA and to be included in the report are: Colombia, Ecuador, and Peru.

In addition, the following countries will be included in the report in accordance with the Departments of Labor, Health and Human Services, and Education, and Related Agencies Appropriation Bill, 2010, S. Rep. 111-066 (2009): Bahrain, Chile, Costa Rica, Dominican Republic, El Salvador, Guatemala, Honduras, Morocco, Nicaragua, Oman, and Peru.

Information Requested for TDA Report

The Department invites interested parties to submit information relevant to the findings to be made by DOL under the TDA for any or all listed countries. Information provided through public submission will be considered by DOL in preparing its findings. Materials submitted should be confined to the specific topic of the study. Please see the “Terms and Definitions” section of this notice for a definition of the worst forms of child labor. The reporting period for which information is requested is calendar year 2009. In cases in which source materials, such as reports or statistics on inspections, prosecutions and convictions, are not available for 2009, DOL will generally consider sources with data up to five years old (i.e. data not older than January 2004). DOL appreciates the extent to which reference periods are clearly indicated in submissions.

In making submissions, interested parties are requested to consider DOL's 2008 Findings on the Worst Forms of Child Labor (TDA report), which may be found online at: http://www.dol.gov/ilab/programs/ocft/PDF/2008OCFTreport.pdf. Those making submissions should note, however, that information requested this year has changed.

In particular, ILAB is seeking information on the following topics:

(A) Prevalence and Sectoral Distribution of Child Labor

DOL seeks information on the nature and extent of the worst forms of child labor in the countries listed above. Children's involvement in the worst forms of child labor may be related to the production of goods, but may also occur in sectors not related to the production of goods, such as trafficking, armed conflict, or prostitution, as well as hazardous work in activities such as domestic service, street vending, or begging. In the case of trafficking of children, the report typically provides information specifying the type of exploitation involved, whether for commercial sex or for labor exploitation, and if for the latter, the industries into which children are trafficked and the goods that they produce. In providing such information, please note that the TDA report also attempts to address the extent to which children are trafficked across national borders or within the country (specifying source, destination and transit countries/regions/communities).

Note that in order to provide comparable statistics on child work and education across countries in the TDA report, DOL relies on the Understanding Children's Work Project (see http://www.ucw-project.org/) and UNESCO Institute of Statistics data (http://stats.uis.unesco.org/); therefore, such data is NOT being requested in this Notice.

(B) Laws and Regulations

DOL also seeks information on new laws or regulations enacted in regard to the worst forms of child labor over the past year, and to what extent, if any, these changes constitute improvements in the legal and regulatory framework. Based on this, and other information gathered and consistent with the goals of the TDA Report, DOL aspires to adjudge whether each relevant country/territory's legal and regulatory framework adequately addresses the worst forms of child labor. Indications of an inadequate framework would include instances in which children have been found working in hazardous conditions, but the sector in which they were working is exempted from minimum age laws; cases in which boys are being exploited as prostitutes, but the law only prohibits female prostitution; or cases in which there are prohibitions against worst forms of child labor, but penalties are too weak to serve as deterrents.

(C) Part I: Institutional Mechanisms for Effective Enforcement—Hazardous Child Labor and Forced Child Labor

DOL also seeks information on the institutional mechanisms for effective enforcement of laws relating to hazardous child labor and forced child labor, two categories of the worst forms of child labor. (Please see “Terms and Definitions” below for more information). Information describing the agencies responsible for the enforcement of laws relating to the worst forms of child labor listed above is of particular interest. Similarly, information related to the functioning of these agencies in receiving child labor complaints and in enforcing applicable laws would be useful. This information will assist in DOL attempts to accurately indicate the adequacy of resources dedicated to the enforcement of laws relating to hazardous child labor and forced child labor, and the results and effectiveness of enforcement efforts.

(C) Part II: Institutional Mechanisms for Effective Enforcement—Child Trafficking, Commercial Sexual Exploitation of Children, and Use of Children in Illicit Activities

DOL further seeks information on the institutional mechanisms for effective enforcement of laws relating to child trafficking; commercial sexual exploitation of children—such as prostitution or pornography; and the use of children in illicit activities, the three remaining categories of the worst forms of child labor. (Please see “Terms and Definitions” below for more information.) Information describing the agencies responsible for the enforcement of laws relating to these worst forms of child labor is of particular interest. Similarly, information related to the functioning of these agencies in receiving notice of child labor violations and enforcement would be useful. This information will assist in DOL attempts to accurately indicate the adequacy of resources dedicated to enforcement of laws relating to child trafficking, commercial sexual exploitation of children, and the use of children in illicit activities, and the results and effectiveness of enforcement efforts. In those situations where the country/territory experienced armed conflict during the reporting period or in the recent past involving the use of child soldiers, the report would benefit from information concerning actions taken to penalize those responsible and the adequacy of these actions.

(D) Government Policies on Child Labor

DOL further seeks information on government policies or plans, funded or otherwise, regarding the worst forms of child labor and the effectiveness of such initiatives. (Please note that DOL will not consider anti-poverty, education or other general child welfare policies to be addressing worst forms of child labor unless such policies or plans have a child labor component. Please also note that DOL will not consider anti-poverty, education or other general child welfare policies or plans to be addressing worst forms of child labor unless they have a child labor component.) Included government efforts could also take the form of government participation in commissions or task forces regarding worst forms of child labor, as well as bilateral, regional or international agreements to combat one or more of the worst forms of child labor.

(E) Social Programs To Eliminate or Prevent Child Labor

DOL also seeks information on government programs, funded or otherwise, to combat the worst forms of child labor and the effectiveness of such initiatives. Most relevant for the purposes of the TDA report is information regarding government-implemented programs that specifically address the worst forms of child labor. (Please note that DOL considers programs implemented by industry or third parties that receive government support, either funding or in-kind, to constitute government efforts. Please also note that DOL will not consider anti-poverty, education or other general child welfare programs to be addressing worst forms of child labor unless they have a child labor component.) Relevant information would also include any information regarding government actions taken pursuant to bilateral, regional or international agreements to combat one or more of the worst forms of child labor and the effectiveness of these measures.

DOL greatly appreciates submission of original sources. Information submitted may include reports, newspaper articles, or other materials. Governments that have ratified ILO Convention 182 are requested to submit copies of their most recent article 22 submissions under the Convention, especially those with information on types of work determined in accordance with article 4 of the Convention. Governments that have not ratified ILO Convention 182 and are members of the ILO are requested to submit copies of their recent article 19 submissions.

Terms and Definitions

Child Labor—“Child labor” under international standards means all work performed by a person below the age of 15. It also includes all work performed by a person below the age of 18 in the worst forms of child labor as defined in ILO Convention 182 and incorporated into provisions (A)-(D) below. The work referred to in subparagraph (D) is determined by the laws, regulations, or competent authority of the country involved, after consultation with the organizations of employers and workers concerned, and taking into consideration relevant international standards. This definition will not apply to work specifically authorized by national laws, including work done by children in schools for general, vocational or technical education or in other training institutions, where such work is carried out in accordance with international standards under conditions prescribed by the competent authority, and does not prejudice children's attendance in school or their capacity to benefit from the instruction received.

Worst Forms of Child Labor—The TDA uses the definition of the “worst forms of child labor” from ILO Convention 182. The term “worst forms of child labor” is defined in section 412(b) of the TDA as comprising:

“(A) all forms of slavery or practices similar to slavery, such as the sale and trafficking of children, debt bondage and serfdom and forced or compulsory labor, including forced or compulsory recruitment of children for use in armed conflict;

(B) the use, procuring or offering of a child for prostitution, for the production of pornography or for pornographic performances;

(C) the use, procuring or offering of a child for illicit activities, in particular for the production and trafficking of drugs as defined in relevant international treaties; and

(D) work which, by its nature or the circumstances in which it is carried out, is likely to harm the health, safety or morals of children.”

The TDA Conference Report noted that the phrase, “work which, by its nature or the circumstances in which it is carried out, is likely to harm the health, safety or morals of children,” is to be defined as in article II of Recommendation No. 190, which accompanies ILO Convention 182. Commonly referred to as “hazardous child labor,” this includes:

“(a) work which exposes children to physical, psychological, or sexual abuse;

(b) work underground, under water, at dangerous heights or in confined spaces;

(c) work with dangerous machinery, equipment and tools, or which involves the manual handling or transport of heavy loads;

(d) work in an unhealthy environment which may, for example, expose children to hazardous substances, agents or processes, or to temperatures, noise levels, or vibrations damaging to their health;

(e) work under particularly difficult conditions such as work for long hours or during the night or work where the child is unreasonably confined to the premises of the employer.”

The TDA Conference Report further indicated “that this phrase be interpreted in a manner consistent with the intent of article 4 of ILO Convention 182, which states that `such work shall be determined by national laws or regulations or by the competent authority in the country involved.'” In addition, the TDA Conference report indicated that the phrase generally not apply to situations in which children work for their parents on bona fide family farms or holdings.

Forced Labor—“Forced labor” under international standards means all work or service which is exacted from any person under the menace of any penalty for its nonperformance and for which the worker does not offer himself voluntarily, and includes indentured labor. “Forced labor” includes work provided or obtained by force, fraud, or coercion, including: (1) By threats of serious harm to, or physical restraint against any person; (2) by means of any scheme, plan, or pattern intended to cause the person to believe that, if the person did not perform such labor or services, that person or another person would suffer serious harm or physical restraint; or (3) by means of the abuse or threatened abuse of law or the legal process. For purposes of this definition, forced labor does not include work specifically authorized by national laws where such work is carried out in accordance with conditions prescribed by the competent authority, including: any work or service required by compulsory military service laws for work of a purely military character; work or service which forms part of the normal civic obligations of the citizens of a fully self-governing country; work or service exacted from any person as a consequence of a conviction in a court of law, provided that the said work or service is carried out under the supervision and control of a public authority and that the said person is not hired to or placed at the disposal of private individuals, companies or associations; work or service required in cases of emergency, such as in the event of war or of a calamity or threatened calamity, fire, flood, famine, earthquake, violent epidemic or epizootic diseases, invasion by animal, insect or vegetable pests, and in general any circumstance that would endanger the existence or the well-being of the whole or part of the population; and minor communal services of a kind which, being performed by the members of the community in the direct interest of the said community, can therefore be considered as normal civic obligations incumbent upon the members of the community, provided that the members of the community or their direct representatives have the right to be consulted in regard to the need for such services.

Forced or Indentured Child Labor means all work or service (1) exacted from any person under the age of 18 under the menace of any penalty for its nonperformance and for which the worker does not offer himself voluntarily; or (2) performed by any person under the age of 18 pursuant to a contract the enforcement of which is accomplished by process or penalties.

Goods—“Goods” means goods, wares, articles, materials, items, supplies, and merchandise.

International Standards—“International standards” means generally accepted international standards relating to forced labor and child labor, such as international conventions and treaties. These Guidelines employ definitions of “child labor” and “forced labor” derived from international standards.

Produced—“Produced” means mined, extracted, harvested, farmed, produced, created, and manufactured.

This notice is a general solicitation of comments from the public.

Signed at Washington, DC, this 18th day of February, 2010.
Sandra Polaski,
Deputy Undersecretary for International Labor Affairs.

[FR Doc. 2010-3655 Filed 2-23-10; 8:45 am]

BILLING CODE 4510-28-P